DEPARTMENT OF ENERGY

Federal Energy Regulatory Commission

[Docket No. EL11-53-000]

Shetek Wind Inc., Jeffers South, LLC and Allco Renewable Energy Limited, Midwest Independent Transmission System Operator, Inc.; Notice of Filing of Response to Data Request

Take notice that on November 7, 2011, in response to a request for additional information relevant to the complaint filed in the above-captioned proceeding, Midwest Independent Transmission System Operator, Inc. (MISO) submitted responses to questions from Commission staff.

MISO states that copies of the response were served on all parties in the Commission's eService list for the proceeding, on all Tariff Customers under the Tariff, MISO Members, member representatives of Transmission Owners and Non-Transmission Owners, MISO Advisory Committee participants, and all state commissions within the region.

Any person desiring to intervene or to comment on this filing must file in accordance with Rules 211 and 214 of the Commission's Rules of Practice and Procedure (18 CFR 385.211 and 385.214). Comments and protests will be considered by the Commission in determining the appropriate action to be taken, but will not serve to make commenters or protestants parties to the proceeding. Any person wishing to become a party must file a notice of intervention or motion to intervene, as appropriate.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the web site that enables subscribers to receive email notification when a document is added to a subscribed docket(s). For assistance with any FERC Online service, please email FERCOnlineSupport@ferc.gov, or call (866) 208-3676 (toll free). For TTY, call (202) 502-8659.

Comment Date: 5 p.m. Eastern Time on November 28, 2011.

Dated: November 9, 2011.
Kimberly D. Bose,
Secretary.

[FR Doc. 2011-29542 Filed 11-15-11; 8:45 am]

BILLING CODE 6717-01-P